DEPARTMENT OF AGRICULTURE

Office of the Secretary

Notice of the National Agricultural Research, Extension, Education, and Economics Advisory Board Meeting

AGENCY: Research, Education, and Economics, USDA.

ACTION: Notice of meeting.

SUMMARY: In accordance with the Federal Advisory Committee Act, 5 U.S.C. App 2, the United States Department of Agriculture (USDA) announces a meeting of the National Agricultural Research, Extension, Education, and Economics Advisory Board.

DATES: The National Agricultural Research, Extension, Education, and Economics Advisory Board will meet March 30-31, 2011. The public may file written comments before or up to two weeks after the meeting with the contact person.

ADDRESSES: The meeting will take place at the Hamilton Crowne Plaza Hotel, 1001 14th Street, NW., Washington, DC 20005. Written comments from the public may be sent to the Contact Person identified in this notice at: The National Agricultural Research, Extension, Education, and Economics Advisory Board Office, Room 3901 South Building, United States Department of Agriculture, STOP 0321, 1400 Independence Avenue, SW., Washington, DC 20250-0321.

FOR FURTHER INFORMATION CONTACT: J. Robert Burk, Executive Director or Shirley Morgan-Jordan, Program Support Coordinator, National Agricultural Research, Extension, Education, and Economics Advisory Board; telephone: (202) 720-3684; fax: (202) 720-6199; or e-mail: Robert.Burk@ars.usda.gov or Shirley.Morgan@ars.usda.gov.

SUPPLEMENTARY INFORMATION: On Wednesday, March 30, 2011, from 8 a.m.-5 p.m., the full Advisory Board meeting will take place beginning with introductory remarks provided by the Chair of the Advisory Board and the USDA Under Secretary for Research, Education, and Economics. Throughout the day remarks will be made by internal and external USDA sources with expertise on subjects relevant to the Board's role as an Advisory Board on research, extension, education, and economics. Following adjournment of the meeting, an evening reception will be held from 6 p.m.-8 p.m. with a guest speaker presenting remarks on a similar subject. Specific agenda items will include a discussion panel on formal Cooperatives for inter and intra agency collaboration on research, and a session related to future funding recommendations for Research, Education, and Economics programs.

On Thursday, March 31, 2010, the Board will reconvene at 8 a.m. to discuss initial recommendations resulting from the meeting, future planning for the Board, and to finalize Board business. The Board Meeting will adjourn by 12 p.m. (noon).

Opportunity for public comment will be offered each day of the meeting, and all portions of the meeting are open to the public. Written comments by attendees or other interested stakeholders will be welcomed for the public record before and up to two weeks following the Board meeting (by the close of business on Thursday, April 14, 2011). All statements will become a part of the official record of the National Agricultural Research, Extension, Education, and Economics Advisory Board and will be kept on file for public review in the Research, Education, and Economics Advisory Board Office.

Done at Washington, DC, this 3rd day of February 2011.
Catherine Woteki,
Under Secretary, Research, Education, and Economics.

[FR Doc. 2011-5422 Filed 3-9-11; 8:45 am]

BILLING CODE 3410-22-P